POSTAL SERVICE

Temporary Emergency Committee of the Board of Governors; Sunshine Act Meeting

TIME AND DATE: March 11, 2015, at 4:30 p.m.

PLACE: Washington, DC, via Teleconference.

STATUS: Committee Votes to Close March 11, 2015, Meeting: By telephone vote on March 11, 2015, members of the Temporary Emergency Committee of the Board of Governors of the United States Postal Service met and voted unanimously to close to public observation its meeting held in Washington, DC, via teleconference. The Committee determined that no earlier public notice was possible.

MATTERS TO BE CONSIDERED: Wednesday, March 11, 2015, at 4:30 p.m.

1. Pricing.

General Counsel Certification: The General Counsel of the United States Postal Service has certified that the meeting was properly closed under the Government in the Sunshine Act.

CONTACT PERSON FOR MORE INFORMATION: Julie S. Moore, Secretary of the Board, U.S. Postal Service, 475 L'Enfant Plaza SW., Washington, DC, 20260-1000, telephone (202) 268-4800.

Julie S. Moore,
Secretary, Board of Governors.

[FR Doc. 2015-06372 Filed 3-17-15; 11:15 am]

BILLING CODE 7710-12-P